DEPARTMENT OF DEFENSE

GENERAL SERVICES ADMINISTRATION

NATIONAL AERONAUTICS AND SPACE ADMINISTRATION

48 CFR Parts 9, 12, and 52

[FAR Case 2008-027; Docket 2009-0030; Sequence 2]

RIN 9000-AL38

Federal Acquisition Regulation; FAR Case 2008-027, Federal Awardee Performance and Integrity Information System

AGENCIES: Department of Defense (DoD), General Services Administration (GSA), and National Aeronautics and Space Administration (NASA).

ACTION: Proposed rule; extension of comment period.

SUMMARY: The Civilian Agency Acquisition Council and the Defense Acquisition Regulations Council (Councils) are proposing to amend the Federal Acquisition Regulation (FAR) to implement Section 872 of the Duncan Hunter National Defense Authorization Act for Fiscal Year 2009. The Councils have agreed to delay the public comment due date. The comment period is being extended to provide additional time for interested parties to review the proposed FAR changes of FAR Case 2008-027, Federal Awardee Performance and Integrity Information System, to November 5, 2009.

DATES: The comment period for the proposed rule published September 3, 2009, at 74 FR 45579, is extended. Interested parties should submit written comments to the Regulatory Secretariat on or before November 5, 2009, to be considered in formulation of the final rule.

ADDRESSES: Submit comments identified by FAR case 2008-027 by any of the following methods:

• Regulations.gov: http://www.regulations.gov.

Submit comments via the Federal eRulemaking portal by inputting “FAR Case 2008-027” into the field “Keyword”. Select the link that corresponds with FAR Case 2008-027. Follow the instructions provided to submit your comments. Please include your name, company name (if any), and “FAR Case 2008-027” on your attached document.

• Fax: 202-501-4067.

• Mail: General Services Administration, Regulatory Secretariat (MVR), 1800 F Street, NW, Room 4041, ATTN: Hada Flowers, Washington, DC 20405.

Instructions: Please submit comments only and cite FAR case 2008-027 in all correspondence related to this case. All comments received will be posted without change to http://www.regulations.gov, including any personal and/or business confidential information provided.

FOR FURTHER INFORMATION CONTACT: The FAR Secretariat at (202) 501-4755 for further information pertaining to status or publication schedule. Please cite FAR Case 2008-027 (delay of public comment due date).

SUPPLEMENTARY INFORMATION:

A. Background

The Councils published a proposed rule in the Federal Register at 74 FR 45579, September 3, 2009. The comment period is being extended to provide additional time for interested parties to review the proposed FAR changes.

Dated: September 30, 2009
Al Matera,
Director, Acquisition Policy Division.

[FR Doc. E9-23893 Filed 10-2-09; 8:45 am]

BILLING CODE 6820-EP-S